DEPARTMENT OF THE INTERIOR

Fish and Wildlife Service

Aquatic Nuisance Species Task Force Meeting

AGENCY: Fish and Wildlife Service, Interior.

ACTION: Notice of meeting.

SUMMARY: This notice announces a meeting of the Aquatic Nuisance Species (ANS) Task Force. The meeting topics are identified in the SUPPLEMENTARY INFORMATION.

DATES: The Aquatic Nuisance Species Task Force will meet from 8:30 a.m. to noon, Tuesday, July 24, 2001 and 8:30 a.m. to 4:30 p.m., Wednesday, July 25, 2001.

ADDRESSES: The ANS Task Force meeting will be held at the Westin, 909 North Michigan Avenue, Chicago, Illinois.

FOR FURTHER INFORMATION CONTACT: Sharon Gross, Executive Secretary, Aquatic Nuisance Species Task Force at 703-358-2308 or by e-mail at sharon_gross@fws.gov.

SUPPLEMENTARY INFORMATION: Pursuant to section 10(a)(2) of the Federal Advisory Committee Act (5 U.S.C. App. I), this notice announces a meeting of the Aquatic Nuisance Species Task Force. The Task Force was established by the Nonindigenous Aquatic Nuisance Prevention and Control Act of 1990.

Topics to be covered during the ANS Task Force meeting on Tuesday and Wednesday include: An overview of regional issues identified by the ANS Task Force Great Lakes Regional Panel; a discussion on the draft strategic plan for the ANS Task Force; an update of activities from the Task Force's regional panels and a recommendation for forming a new Northeast Regional Panel; status and updates from several other Task Force committees including the Caulerpa Prevention Committee and the Communications, Education and Outreach Committee; and other topics.

Minutes of the meeting will be maintained by the Executive Secretary, Aquatic Nuisance Species Task Force, Suite 810, 4401 North Fairfax Drive, Arlington, Virginia 22203-1622, and will be available for public inspection during regular business hours, Monday through Friday.

Dated: July 10, 2001.
Cathleen I. Short,
Co-chair, Aquatic Nuisance Species Task Force, Assistant Director—Fisheries and Habitat Conservation.

[FR Doc. 01-17629 Filed 7-12-01; 8:45 am]

BILLING CODE 4310-55-M